DEPARTMENT OF COMMERCE

International Trade Administration

[A-570-893]

Certain Frozen Warmwater Shrimp From the People's Republic of China: Extension of Final Results of Antidumping Duty Administrative Review

AGENCY: Import Administration, International Trade Administration, Department of Commerce

SUMMARY: The Department of Commerce (“Department”) is extending the time limit for the final results of the administrative review of certain frozen warmwater shrimp from the People's Republic of China (“PRC”). The review covers the period February 1, 2008, through January 31, 2009.

DATES: Effective Date: May 20, 2010.

FOR FURTHER INFORMATION CONTACT: Irene Gorelik, AD/CVD Operations, Office 9, Import Administration, International Trade Administration, U.S. Department of Commerce, 14th Street and Constitution Avenue, NW., Washington, DC 20230; telephone: (202) 482-6905.

Background

On March 26, 2009, the Department published a notice of initiation of the administrative reviews of the antidumping duty orders on certain frozen shrimp from the Socialist Republic of Vietnam and the PRC. See Notice of Initiation of Administrative Reviews and Requests for Revocation in Part of the Antidumping Duty Orders on Certain Frozen Warmwater Shrimp From the Socialist Republic of Vietnam and the People's Republic of China, 74 FR 13178 (March 26, 2009). On March 12, 2010, the Department published the preliminary results of review. See Fourth Administrative Review of Certain Frozen Warmwater Shrimp From the People's Republic of China: Preliminary Results, Preliminary Partial Rescission of Antidumping Duty Administrative Review and Intent Not To Revoke, In Part, 75 FR 11855 (March 12, 2010).

Statutory Time Limits

In antidumping duty administrative reviews, section 751(a)(3)(A) of the Tariff Act of 1930, as amended (“the Act”), requires the Department to make a final determination in an administrative review of an antidumping duty order within 120 days after the date on which the preliminary results are published. However, if it is not practicable to complete the review within these time periods, section 751(a)(3)(A) of the Act allows the Department to extend the 120 day period to 180 days after the preliminary results if it determines it is not practicable to complete the review within the foregoing time period.

Extension of Time Limit for Preliminary Results of Review

We determine that it is not practicable to complete the final results of the administrative review of certain frozen warmwater shrimp from the PRC within the 120 day time limit because the Department requires additional time to analyze case and rebuttal briefs.

Therefore, in accordance with section 751(a)(3)(A) of the Act, the Department is extending the time period for completion of the final results of this review, which is currently due on July 10, 2010, by 30 days to 150 days after the date on which the preliminary results were published. Therefore, the final results are now due no later than August 9, 2010.

We are issuing and publishing this notice in accordance with sections 751(a)(3)(A) and 777(i) of the Act.

Dated: May 14, 2010.
John M. Andersen,
Acting Deputy Assistant Secretary for Antidumping and Countervailing Duty Operations.

[FR Doc. 2010-12141 Filed 5-19-10; 8:45 am]

BILLING CODE 3510-DS-P